DEPARTMENT OF COMMERCE

National Oceanic and Atmospheric Administration

[RTID 0648-XB831]

Atlantic Coastal Fisheries Cooperative Management Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit application contains all of the required information and warrants further consideration. The Exempted Fishing Permit would allow commercial fishing vessels to fish outside fishery regulations in support of research conducted by the applicant. Regulations under the Magnuson-Stevens Fishery Conservation and Management Act and the Atlantic Coastal Fisheries Cooperative Management Act require publication of this notification to provide interested parties the opportunity to comment on applications for proposed Exempted Fishing Permits.

DATES: Comments must be received on or before March 11, 2022.

ADDRESSES: You may submit written comments by the following method:

• Email: nmfs.gar.efp@noaa.gov. Include in the subject line “AOLA Larval Lobster EFP.”

FOR FURTHER INFORMATION CONTACT: Laura Deighan, Fishery Management Specialist, Laura.Deighan@noaa.gov, (978) 281-9184.

SUPPLEMENTARY INFORMATION: The Atlantic Offshore Lobstermen's Association submitted a complete application for an Exempted Fishing Permit (EFP) to conduct commercial fishing activities that the regulations would otherwise restrict to assess the distribution and abundance of lobster larvae and their potential food sources. This EFP would exempt the participating vessels from the Federal regulations described in Table 1.

Table 1—Requested Exemptions
Citation | Regulation | Need for exemption
50 CFR 697.7(c)(1)(xxii) | Lobster gear prohibitions | To allow for the use of multiple gear types capable of catching lobsters.
§ 697.17(a) | Lobster possession restrictions | To allow the harvest of lobster above the non-trap limit.
§ 697.20(a) | Lobster possession restrictions | To allow for the collection of larval lobsters below the minimum size.

This project would provide information on the spatial and temporal distribution and abundance of early and late stage American lobster larvae and their likely zooplankton prey in the Gulf of Maine and Georges Bank. This study would use one federally permitted lobster vessel to conduct sampling with a neuston net at a single offshore site (Lobster Management Area 3) during 10 5-10 day fishing trips between May 15, 2022, and October 15, 2022. The participants would record physical parameters and conduct three 15-minute tows on a single day during each trip. After each tow, participants would preserve zooplankton in 500 mL sample bottles, a total of up to 30 bottles of preserved plankton, and transfer the samples to the project researchers. The crew has been trained to operate the scientific gear and obtain the samples without a technician on board.

The Atlantic Offshore Lobstermen's Association received an EFP for this project in 2021, but the crew was only able to sample on 4 of the 14 proposed dates in 2021. This EFP would allow the project team to complete the work and meet the project objectives.

Participants would land and sell legal catch caught in standard gear during the trips.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

(Authority: 16 U.S.C. 1801 et seq.)

Dated: February 18, 2022.
Ngagne Jafnar Gueye,
Acting Director, Office of Sustainable Fisheries, National Marine Fisheries Service.

[FR Doc. 2022-03905 Filed 2-23-22; 8:45 am]

BILLING CODE 3510-22-P